DEPARTMENT OF ENERGY

Federal Energy Regulatory Commission

[Docket No. RP02-172-000]

TransColorado Gas Transmission Company; Notice of Annual Fuel Gas Reimbursement Report

March 7, 2002.

Take notice that on March 1, 2002, TransColorado Gas Transmission Company (TransColorado) tendered for filing its annual Fuel Gas Reimbursement Percentage (FGRP) report and proposed a Phase I −0.1% variance adjustment and a Phase II 0.1% variance adjustment to be effective April 1, 2002. The Phase I variance adjustment is applicable to contracts entered into after March 31, 2001.

TransColorado stated that a copy of this filing has been served upon its customers, the New Mexico Public Utilities Commission and the Colorado Public Utilities Commission.

Any person desiring to be heard or to protest said filing should file a motion to intervene or a protest with the Federal Energy Regulatory Commission, 888 First Street, NE., Washington, DC 20426, in accordance with Sections 385.214 or 385.211 of the Commission's Rules and Regulations. All such motions or protests must be filed on or before March 14, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-5990 Filed 3-12-02; 8:45 am]

BILLING CODE 6717-01-P